FEDERAL COMMUNICATIONS COMMISSION

47 CFR Part 73

[DA 08-2272; MB Docket No. 07-210; RM-11399]

Radio Broadcasting Services; Butte Falls and Netarts, OR

AGENCY: Federal Communications Commission.

ACTION: Final rule.

SUMMARY: The Audio Division grants a Petition for Rule Making issued at the request of Oregon Radio Partners, proposing the allotments of Channel 290A at Butte Falls, Oregon and Channel 232C3 at Netarts, Oregon, as first local services. Channel 290A at Butte Falls can be allotted, consistent with the minimum distance separation requirements of the Commission's Rules, at reference coordinates 42-36-19 NL and 122-24-38 WL with a site restriction of 14.7 kilometers (9.1 miles) northeast of Butte Falls. Moreover, Channel 232C3 can be allotted to Netarts, consistent with the minimum distance separation requirements of the Commission's Rules, at reference coordinates 45-27-56 NL and 123-58-11 WL with a site restriction of 4 kilometers (2.5 miles) northwest of Netarts. The coordinates for Channel 232C3 at Netarts are located 320 kilometers from the Canadian border. As such, Canadian concurrence has been requested. Canada has approved the allotment, not specially negotiated, on Channel 232B1, the international class for this vacant facility. See Supplementary Information, supra.

DATES: Effective November 24, 2008.

ADDRESSES: Secretary, Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 07-210, adopted October 8, 2008, and released October 10, 2008. The Notice of Proposed Rule Making proposed the allotment of Channel 290A at Butte Falls and Channel 232C3 at Netarts. See 72 FR 59507, published October 22, 2007. The full text of this Commission decision is available for inspection and copying during normal business hours in the Commission's Reference Information Center, 445 Twelfth Street, SW., Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

The new Butte Falls and Netarts vacant allotments accommodates two hybrid communities of license applications involving Station KTIL-FM, Channel 232C3, Tillamook, Oregon and new FM station, Channel 225A, Butte Falls, Oregon. See File Nos. BPH-20070125ADO and BNPH-20060310ACD, respectively. See also 72 FR 14554, published March 28, 2007 and 72 FR 7032, published February 14, 2007.

The hybrid community of license application, File No. BPH-20070125ADO proposes the reallotment of Channel 232C3 at Tillamook to Channel 232C2 at Government Camp, Oregon, and modification of the Station KTIL-FM license to reflect the change. To accommodate the Station KTIL-FM application, we issued Orders to Show Cause (“OTSC”) directed to the licensees of Station KXIX, Channel 231C0, Bend, Oregon and Station KRXF, Channel 224C2, Sunriver, Oregon. See Letter to GCC bend, LLC, Ref. No. 1800B3-HC (MB May 23, 2007) (OTSC to Station KXIX licensee) and Letter to Fields Pond Group, Ref. No. 1800B3-HC (MB May 23, 2007) (OTSC to Station KRXF licensee). No responses were received. Therefore, the licensees of Stations KXIX and KRXF are deemed to have consented to the channel substitutions with respect to Channel 225C0 at Bend, Oregon for Station KXIX and Channel 231C2 at Sunriver, Oregon for Station KRXF, respectively. See 47 CFR Section 1.87. See also Circleville, Ohio, Second Report and Order, 8 FCC 2d 159 (1967). Additionally, the hybrid community of license application, File No. BNPH-20060310ACD, proposes the reallotment of Channel 225A from Butte Falls to Talent, Oregon, and modification of the new FM station license to specify operation at Talent. The applications, File Nos. BPH-20070125ADO and BNPH-20060310ACD were granted simultaneously with the release of the aforementioned Report and Order.

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oregon, is amended by adding Butte Falls, Channel 290A and by adding Netarts, Channel 232C3.

Federal Communications Commission.
John A. Karousos,
Assistant Chief, Audio Division, Media Bureau.

[FR Doc. E8-25466 Filed 10-23-08; 8:45 am]

BILLING CODE 6712-01-P